DEPARTMENT OF THE INTERIOR

Bureau of Land Management

[BLM_WY_FRN_MO4500180547]

Notice of Public Meeting, Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Wyoming Resource Advisory Council (Council) will meet as follows.

DATES: The Council will hold a meeting on September 18, 2024, from 8:30 a.m. to 4:30 p.m. Mountain Time (MT) and a field tour on September 19, 2024, from 9:00 a.m. to approximately 4:00 p.m. MT. A virtual participation option will be available. The meeting and field tour are open to the public.

ADDRESSES: The September 18 meeting will be held, and the September 19 field tour will commence and conclude, at the Sublette County Library, 155 S Tyler Ave, Pinedale, WY 82941. Individuals that prefer to participate virtually must register in advance. Registration information and the final agenda will be posted two weeks in advance of the meeting on the Council's web page at https://www.blm.gov/get-involved/resource-advisory-council/near-you/wyoming.

FOR FURTHER INFORMATION CONTACT: Allegra Keenoo, BLM Wyoming State Office, telephone: (307) 775-6318, email: akeenoo@blm.gov. Individuals in the United States who are deaf, deafblind, hard of hearing, or have a speech disability may dial 711 (TTY, TDD, or TeleBraille) to access telecommunications relay services. Individuals outside the United States should use the relay services offered within their country to make international calls to the point-of-contact in the United States. Please make requests in advance for sign language interpreter services, assistive listening devices, language translation services, or other reasonable accommodations. We ask that you contact the person listed above at least 14 business days prior to the meeting to give the Department of the Interior sufficient time to process your request. All reasonable accommodation requests are managed on a case-by-case basis.

SUPPLEMENTARY INFORMATION: The Council provides recommendations to the Secretary of the Interior concerning the planning and management of the public land resources located within the State of Wyoming. Agenda topics for the September 18, 2024, meeting may include district and field manager updates and presentations on the final Rock Springs Resource Management Plan (RMP), if available, the Greater Sage Grouse RMP Amendments, the Foundation for America's Public Lands, wild horse gathers, rule implementation, the Blueprint for 21st Century Outdoor Recreation Plan, and other resource management issues the Council may raise. The Council will participate in a field tour on September 19, 2024, to view projects within the Pinedale Field Office. Members of the public are welcome on field tours but must provide their own transportation and meals.

A public comment period will be offered September 18, 2024, at 2:45 p.m. Depending on the number of persons wishing to speak and the time available, the amount of time for oral comments may be limited. Written comments for the Council may be sent electronically in advance of the scheduled meeting to the individual listed in the FOR FURTHER INFORMATION CONTACT section of this notice. All comments received will be provided to the Council. Before including your address, phone number, email address, or other personal identifying information in your comment, you should be aware that your entire comment—including your personal identifying information—may be made publicly available at any time. While you can ask us in your comment to withhold your personal identifying information from public review, we cannot guarantee that we will be able to do so.

Detailed minutes for Council meetings will be maintained in the BLM Wyoming State Office. Minutes will also be posted to the Council's web page at https://www.blm.gov/get-involved/resource-advisory-council/near-you/wyoming.

Authority: 43 CFR 1784.4-2.

Andrew Archuleta,
BLM Wyoming State Director.

[FR Doc. 2024-17421 Filed 8-6-24; 8:45 am]

BILLING CODE 4331-16-P